DEPARTMENT OF ENERGY

Federal Energy Regulatory Commission

[Project No. 8646-043]

Robert N. Fackrell; Mink Creek Hydro LLC; Notice of Application for Transfer of License, and Soliciting Comments, Motions To Intervene, and Protests

December 30, 2008.

On October 31, 2008, Robert N. Fackrell (Transferor) and Mink Creek Hydro LLC (Transferee) filed an application, for transfer of license of the Mink Creek Hydroelectric Project, located on Mink Creek in Franklin County, Idaho.

Applicants seek Commission approval to transfer the license for the Mink Creek Hydro Project to Mink Creek Hydro LLC.

Applicant Contact: Mr. Robert N. Fackrell, Corporate Manager, Mink Creek Hydro LLC, P.O. Box 1, Preston, ID 83263, phone (208) 852-1522.

FERC Contact: Patricia W. Gillis, (202) 502-8735.

Deadline for filing comments, motions to intervene: 30 days from the issuance of this notice. Comments, motions to intervene, and notices of intent may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-8646) in the docket number field to access the document. For assistance, call toll-free 1-866-208-3372.

Kimberly D. Bose,
Secretary.

[FR Doc. E8-31428 Filed 1-6-09; 8:45 am]

BILLING CODE 6717-01-P